DEPARTMENT OF ENERGY

Federal Energy Regulatory Commission

[Docket No. CP26-20-000]

Columbia Gas Transmission, LLC; Notice of Cancellation of Public Scoping Session for the Southeast Virginia Energy Storage Project

On January 13, 2026, the Federal Energy Regulatory Commission (FERC or Commission) issued a Notice of Scoping Period Requesting Comments on Environmental Issues for the Proposed Southeast Virginia Energy Storage Project and Notice of Public Scoping Sessions. The notice solicited comments on the potential environmental impacts of the planned project and announced the time and location of two public scoping sessions being held for the environmental proceedings.

Due to the upcoming winter storm, the Commission staff is cancelling the scoping sessions planned for February 3, 2026 at the Jessica Ann Moore Community Center, 408 School Street, Waverly, VA. If a new session is established and scheduled, the Commission will issue another notice advising the date and time.

(Authority: 18 CFR 2.1)

Dated: January 30, 2026.
Debbie-Anne A. Reese,
Secretary.

[FR Doc. 2026-02425 Filed 2-5-26; 8:45 am]

BILLING CODE 6717-01-P